DEPARTMENT OF HEALTH AND HUMAN SERVICES

Substance Abuse and Mental Health Services Administration

Fiscal Year (FY) 2004 Funding Opportunity

AGENCY: Center for Substance Abuse Prevention, Substance Abuse and Mental Health Services Administration, HHS.

ACTION: Notice of intent to award a single source grant to the District of Columbia (DC) State Incentive Grant (SIG) Program.

SUMMARY: This notice is to inform the public that the Substance Abuse and Mental Health Services Administration (SAMHSA), Center for Substance Abuse Prevention (CSAP), intends to award approximately $300,000 (total costs) for a one-year project period to the District of Columbia (DC) State Incentive Grant (SIG) Program. This is not a formal request for applications. Assistance will be provided only to the District of Columbia (DC) State Incentive Grant (SIG) Program based on the receipt of a satisfactory application that is approved by an independent review group.

Funding Opportunity Title: SP 04-009.

Catalog of Federal Domestic Assistance (CFDA) Number: 93.243.

Authority: Section 516 of the Public Health Service Act, as amended.

Justification: Only the District of Columbia (DC) State Incentive Grant (SIG) Program is eligible to apply. The Substance Abuse and Mental Health Services Administration (SAMHSA), Center for Substance Abuse Prevention (CSAP), is seeking to award a single source supplemental grant to the DC SIG to support the expansion and bring to scale the Best Friends Foundation's Best Friends and Best Men Youth Development Program by reaching a larger number of youth and schools. It has been shown that youth in DC experience a large number of risk factors that impact significantly on their health, safety, and future productivity. SAMHSA's SIG programs provide States with an opportunity to focus resources to address risk and protective factors and achieve positive outcomes by implementing programs that work. The DC SIG has previously supported the Best Friends Programs by implementing the programs in 13 DC Public Schools, reaching 188 youth. A supplemental award to the DC SIG will build on the initial investment and enable the Best Friends Program to be expanded to reach more youth through its curriculum and activities. This supplement will facilitate funds being awarded more expeditiously so the program can be implemented in 2004. Since Best Friends has demonstrated positive outcomes, it furthers the goals and objectives of the DC SIG by engaging community based organizations to improve prevention services for youth. It will address risk and protective factors for DC youth and help achieve positive outcomes.

Contact: Sheri Rucker, SAMHSA/CSAP, Division of State & Community Systems Development, 5600 Fishers Lane, Rockwall II, 9th Floor, Rockville, MD 20857; telephone: (301) 443-2288; e-mail: srucker@samhsa.gov.

Dated: February 13, 2004.
Daryl Kade,
Director, Office of Policy, Planning and Budget, Substance Abuse and Mental Health Services Administration.

[FR Doc. 04-3766 Filed 2-20-04; 8:45 am]

BILLING CODE 4162-20-P